DEPARTMENT OF LABOR

Employment and Training Administration

[TA-W-54,861]

J.S. Technos Corporation, a Subsidiary of Robert Bosch Corporation, Including Workers of Quality Personnel, Russellville, KY; Notice of Termination of Investigation

Pursuant to section 221 of the Trade Act of 1974, as amended, an investigation was initiated on May 6, 2004 in response to a petition filed on behalf of workers at J.S. Technos Corporation, a subsidiary of Robert Bosch Corporation, Russellville, Kentucky. The workers were engaged in producing master cylinders.

The subject firm also leased some production workers from Quality Personnel.

The Department of Labor issued a negative determination applicable to the petitioning group of workers on March 2, 2004 (TA-W-54,217). No new information or change in circumstances is evident which would result in a reversal of the Department's previous determination. Consequently, further investigation would serve no purpose, and the investigation has been terminated.

Signed at Washington, DC this 14th day of May, 2004.
Richard Church,
Certifying Officer, Division of Trade Adjustment Assistance.

[FR Doc. 04-12629 Filed 6-3-04; 8:45 am]

BILLING CODE 4510-30-P